DEPARTMENT OF HEALTH AND HUMAN SERVICES

National Institutes of Health

Center for Scientific Review; Amended Notice of Meeting

Notice is hereby given of a change in the meeting of the Center for Scientific Review Special Emphasis Panel, January 28, 2026, 09:30 a.m. to 06:00 p.m., National Institutes of Health, Rockledge II, 6701 Rockledge Drive, Bethesda, MD 20892 which was published in the Federal Register on December 15, 2025, 90 FR 58026.

This notice is being amended to change the meeting date from 1/28/2026 to 1/27/2026. The meeting is closed to the public.

Dated: January 30, 2026.
Margaret N. Vardanian,
Program Analyst, Office of Federal Advisory Committee Policy.

[FR Doc. 2026-02435 Filed 2-5-26; 8:45 am]

BILLING CODE 4140-01-P